DEPARTMENT OF COMMERCE

International Trade Administration

[A-533-840]

Certain Frozen Warmwater Shrimp From India: Partial Rescission of Antidumping Duty Administrative Review; 2021-2022

AGENCY: Enforcement and Compliance, International Trade Administration, Department of Commerce.

SUMMARY: On April 12, 2022, the Department of Commerce (Commerce) initiated an administrative review of the antidumping duty (AD) order on certain frozen warmwater shrimp (shrimp) from India for the period February 1, 2021, through January 31, 2022, for 261 companies. Because all interested parties timely withdrew their requests for administrative review for certain companies, we are rescinding this administrative review with respect to those companies. For a list of the companies for which we are rescinding this review, see Appendix I to this notice. For a list of the companies for which the review is continuing, see Appendix II to this notice.

DATES: Applicable November 17, 2022.

FOR FURTHER INFORMATION CONTACT: Terre Keaton Stefanova or Adam Simons, AD/CVD Operations, Office II, Enforcement and Compliance, International Trade Administration, U.S. Department of Commerce, 1401 Constitution Avenue NW, Washington, DC 20230; telephone: 202-482 1280 or (202) 482-6172, respectively.

Background

On February 8, 2022, Commerce published in the Federal Register a notice of opportunity to request an administrative review of the antidumping duty order on frozen warmwater shrimp from India for the period February 1, 2021, through January 31, 2022.¹ In February 2022, Commerce received timely requests, in accordance with section 751(a) of the Tariff Act of 1930, as amended (the Act), to conduct an administrative review of this antidumping duty order from the Ad Hoc Shrimp Trade Action Committee (the petitioner), the American Shrimp Processors Association (ASPA), and certain individual companies. Based upon these requests, on April 12, 2022, in accordance with section 751(a) of the Act, Commerce published in the Federal Register a notice of initiation listing 261 companies for which Commerce received timely requests for review.²

¹ See Antidumping or Countervailing Duty Order, Finding, or Suspended Investigation; Opportunity to Request Administrative Review, 87 FR 7112 (February 8, 2022).

² See Initiation of Antidumping and Countervailing Duty Administrative Reviews, 87 FR 21619 (April 12, 2022) (Initiation Notice).

In July 2022, all interested parties timely withdrew their requests for an administrative review of certain companies.³ These companies are listed in Appendix I.

³ See Devi Fisheries Limited's Letter, “Withdrawal of our request for Administrative Review for the period 02/01/21-01/31/22,” dated July 7, 2022; Nekkanti Sea Foods Limited's Letter, “Withdrawal of our request for Administrative Review for the period 02/01/21-01/31/22,” dated July 7, 2022; Magnum Export's Letter, “Withdrawal of our request for Administrative Review for the period 02/01/21-01/31/22,” dated July 7, 2022; ASPA's Letter, “American Shrimp Processors Association's Withdrawal of Review Requests,” dated July 7, 2022; Sea Foods Private Limited's Letter, “Withdrawal of our request for Administrative Review for the period 02/01/21-01/31/22,” dated July 7, 2022; Z.A. Sea Foods Pvt Ltd's Letter, “Withdrawal of our request for Administrative Review for the period 02/01/21-01/31/22,” dated July 7, 2022; Fourteen Indian Producers' Letter, “Withdrawal of Requests for Administrative Reviews for 14 Indian Producers/Exporters (02/01/21-01/31/22),” dated July 8, 2022; Petitioner's Letter, “Domestic Producers' Partial Withdrawal of Review Requests,” dated July 8, 2022; B-One Business House Pvt. Ltd.'s Letter, “B-One Withdrawal of Request for Review of the Antidumping Duty Order for period of February 01, 2021 to January 31, 2022,” dated July 11, 2022; Royal Oceans' Letter, “Royal Oceans Withdrawal of Request for Review of the Antidumping Duty Order for period of February 01, 2021 to January 31, 2022,” dated July 11, 2022; RSA Marines' Letter, “RSA Marines Withdrawal of Request for Review of the Antidumping Duty Order for period of February 01, 2021 to January 31, 2022,” dated July 11, 2022; Summit Marine Exports Private Limited's Letter, “Summit Marine Export Withdrawal of Request for Review of the Antidumping Duty Order for period of February 01, 202 to January 31, 2022,” dated July 11, 2022; and Magnum Sea Foods Limited's Letter, “Magnum's Withdrawal of Request for Review of the Antidumping Duty Order for period of February 01, 2021 to January 31, 2022,” dated July 11, 2022.

Partial Rescission

Pursuant to 19 CFR 351.213(d)(1), the Secretary will rescind an administrative review, in whole or in part, if a party who requested the review withdraws the request within 90 days of the date of publication of notice of initiation of the requested review. As noted above, certain parties withdrew their requests for review by the 90-day deadline. Accordingly, we are rescinding this administrative review with respect to the companies listed in Appendix I.

Assessment

Commerce will instruct U.S. Customs and Border Protection (CBP) to assess antidumping duties on all appropriate entries. Antidumping duties shall be assessed at rates equal to the cash deposit of estimated antidumping duties required at the time of entry, or withdrawal from warehouse, for consumption, in accordance with 19 CFR 351.212(c)(1)(i). Commerce intends to issue appropriate assessment instructions to CBP no earlier than 35 days after publication of this notice in the Federal Register.

Notification to Importers

This notice serves as a reminder to importers of their responsibility under 19 CFR 351.402(f)(2) to file a certificate regarding the reimbursement of antidumping duties prior to liquidation of the relevant entries during this review period. Failure to comply with this requirement could result in Commerce's presumption that reimbursement of antidumping duties occurred and the subsequent assessment of doubled antidumping duties.

Notification Regarding Administrative Protective Orders

This notice also serves as a reminder to parties subject to administrative protective order (APO) of their responsibility concerning the return or destruction of proprietary information disclosed under APO in accordance with 19 CFR 351.305. Timely written notification of the return/destruction of APO materials or conversion to judicial protective order is hereby requested. Failure to comply with the regulations and terms of an APO is a violation which is subject to sanction.

Notification to Interested Parties

This notice is issued and published in accordance with section 751(a)(1) of the Act and 19 CFR 351.213(d)(4).

Dated: November 10, 2022.
James Maeder,
Deputy Assistant Secretary for Antidumping and Countervailing Duty Operations.

Appendix I

Akshay Food Impex Private Limited

Alashore Marine Exports (P) Ltd.

Alpha Marine

Ananda Enterprises (India) Private Limited

Ananda Group (comprised of Ananda Aqua Applications; Ananda Aqua Exports (P) Limited; and Ananda Foods)

Apex Frozen Foods Private Limited

Aquatica Frozen Foods Global Pvt. Ltd.

Arya Sea Foods Private Limited

Asvini Fisheries Ltd./Asvini Fisheries Private Ltd.

Avanti Frozen Foods Private Limited

BMR Exports

BMR Industries Private Limited

B-One Business House Pvt. Ltd.

C.P. Aquaculture (India) Pvt. Ltd.

Castlerock Fisheries Ltd.

Choice Trading Corporation Pvt. Ltd.

Coastal Aqua Private Limited

Coastal Corporation Ltd.

Devi Fisheries Group (comprised of Devi Fisheries Limited; Satya Seafoods Private Limited;

Usha Seafoods; and Devi Aquatech Private Limited)

DSF Aquatech Private Limited

Falcon Marine Exports Limited/KR Enterprises

Five Star Marine Exports Private Limited

Forstar Frozen Foods Pvt. Ltd.

Geo Seafoods

Godavari Mega Aqua Food Park Private Limited

Growel Processors Private Limited

IFB Agro Industries Limited

ITC Ltd.

Jagadeesh Marine Exports

Jaya Lakshmi Sea Foods Pvt. Ltd.

KNC Agro Limited

The Kadalkanny Group (comprised of Diamond Seafoods Exports; Edhayam Frozen Foods Pvt.

Ltd.; Kadalkanny Frozen Foods; and Theva & Company)

Kalyan Aqua & Marine Exp. India Pvt. Ltd.

Liberty Group (comprised of Devi Marine Food Exports Private Ltd.; Kader Exports Private Limited; Kader Investment and Trading Company Private Limited; Liberty Frozen Foods Private Limited; Liberty Oil Mills Limited; Premier Marine Products Private Limited; and Universal Cold Storage Private Limited)

LNSK Green House Agro Products LLP

Magnum Export/Magnum Exports Pvt. Ltd.

Magnum Seafoods Limited/Magnum Estates Private Limited

Mangala Marine Exim India Pvt. Ltd.

Mangala Seafoods (AKA Mangala Sea Foods)

Milesh Marine Exports Private Limited

Monsun Foods Pvt. Ltd.

Mourya Aquex Pvt. Ltd.

Munnangi Seafoods (Pvt) Ltd.

Naga Hanuman Fish Packers

Neeli Aqua Private Limited

Nekkanti Mega Food Park Private Limited

Nekkanti Sea Foods Limited

Nezami Rekha Sea Foods Private Limited

Nila Sea Foods Exports/Nila Sea Food Pvt. Ltd.

Pasupati Aquatics Private Limited

Penver Products (P) Ltd.

Razban Seafoods Ltd.

Royal Imports and Exports

Royale Marine Impex Pvt. Ltd

RSA Marines/Royal Oceans

S.A. Exports

Sagar Grandhi Exports Pvt. Ltd.

Sai Marine Exports Pvt. Ltd.

Sai Sea Foods

Sandhya Aqua Exports Pvt. Ltd.

Sandhya Marines Limited

Sea Foods Private Limited

Sharat Industries Ltd.

Shree Datt Aquaculture Farms Pvt. Ltd.

Southern Tropical Foods Pvt. Ltd.

Sprint Exports Pvt. Ltd.

Summit Marine Exports Private Limited

Sunrise Seafoods India Private Limited

Suryamitra Exim Pvt. Ltd.

V V Marine Products

Vasista Marine

Veerabhadra Exports Private Limited

Wellcome Fisheries Limited

Z.A. Sea Foods Pvt. Ltd.

Appendix II

Abad Fisheries

Accelerated Freeze Drying Co.

ADF Foods Ltd.

Albys Agro Private Limited

Al-Hassan Overseas Private Limited

Allana Frozen Foods Pvt. Ltd.

Allanasons Ltd.

Alps Ice & Cold Storage Private Limited

Amaravathi Aqua Exports Private Limited

Amarsagar Seafoods Private Limited

Amulya Seafoods

Anantha Seafoods Private Limited

Anjaneya Seafoods

Asvini Agro Exports

Ayshwarya Sea Food Private Limited

B R Traders

Baby Marine Eastern Exports

Baby Marine Exports

Baby Marine International

Baby Marine Sarass

Baby Marine Ventures

Balasore Marine Exports Private Limited

BB Estates & Exports Private Limited

Bell Exim Private Limited

Bhatsons Aquatic Products

Bhavani Seafoods

Bhimraj Exports Private Limited

Bijaya Marine Products

Blue-Fin Frozen Foods Private Limited

Blue Water Foods & Exports P. Ltd.

Bluepark Seafoods Pvt. Ltd.

Britto Seafood Exports Pvt Ltd.

Calcutta Seafoods Pvt. Ltd./Bay Seafood Pvt. Ltd./Elque & Co.

Canaan Marine Products

Capithan Exporting Co.

Cargomar Private Limited

Chakri Fisheries Private Limited

Chemmeens (Regd)

Cherukattu Industries (Marine Div)

Cochin Frozen Food Exports Pvt. Ltd.

Cofoods Processors Private Limited

Continental Fisheries India Private Limited

Coreline Exports

Corlim Marine Exports Private Limited

CPF (India) Private Limited

Crystal Sea Foods Private Limited

Danica Aqua Exports Private Limited

Datla Sea Foods

Deepak Nexgen Foods and Feeds Pvt. Ltd.

Delsea Exports Pvt. Ltd.

Devi Sea Foods Limited ⁴

⁴ Shrimp produced and exported by Devi Sea Foods Limited (Devi) was excluded from the order effective February 1, 2009. See Certain Frozen Warmwater Shrimp from India: Final Results of the Antidumping Duty Administrative Review, Partial Rescission of Review, and Notice of Revocation of Order in Part, 75 FR 41813, 41814 (July 19, 2010). Accordingly, we initiated this administrative review with respect to Devi only for shrimp produced in India where Devi acted as either the manufacturer or exporter (but not both).

Dwaraka Sea Foods

Empire Industries Limited

Entel Food Products Private Limited

Esmario Export Enterprises

Everblue Sea Foods Private Limited

Febin Marine Foods Private Limited

Fedora Sea Foods Private Limited

Food Products Pvt., Ltd./Parayil Food Products Pvt., Ltd.

Fouress Food Products Private Limited

Frontline Exports Pvt. Ltd.

G A Randerian Ltd.

Gadre Marine Exports (AKA Gadre Marine Exports Pvt. Ltd.)

Galaxy Maritech Exports P. Ltd.

Geo Aquatic Products (P) Ltd.

Grandtrust Overseas (P) Ltd.

GVR Exports Pvt. Ltd.

Hari Marine Private Limited

Haripriya Marine Export Pvt. Ltd.

HIC ABF Special Foods Pvt. Ltd.

Highland Agro

Hiravati Exports Pvt. Ltd.

Hiravati International Pvt. Ltd.

Hiravati Marine Products Private Limited

HMG Industries Ltd

HN Indigos Private Limited

Hyson Exports Private Limited

Hyson Logistics and Marine Exports Private Limited

Indian Aquatic Products

Indo Aquatics

Indo Fisheries

Indo French Shellfish Company Private Limited

International Freezefish Exports

Jinny Marine Traders

Jude Foods India Private Limited

K.V. Marine Exports

Karunya Marine Exports Private Limited

Kaushalya Aqua Marine Product Exports Pvt. Ltd.

Kay Kay Exports

Kings Infra Ventures Limited

Kings Marine Products

Koluthara Exports Ltd.

Libran Foods

Lito Marine Exports Private Limited

Mangala Sea Products

Marine Harvest India

Megaa Moda Pvt. Ltd.

Milsha Agro Exports Pvt. Ltd.

Milsha Sea Products

Minaxi Fisheries Private Limited

Mindhola Foods LLP

Minh Phu Group

MMC Exports Limited

MTR Foods

Naik Frozen Foods Private Limited

Naik Oceanic Exports Pvt. Ltd./Rafiq Naik Exports Pvt. Ltd

Naik Seafoods Ltd.

NAS Fisheries Pvt. Ltd

Nine Up Frozen Foods

N.K. Marine Exports LLP

Nutrient Marine Foods Limited

Oceanic Edibles International Limited

Paragon Sea Foods Pvt. Ltd.

Paramount Seafoods

Pesca Marine Products Pvt., Ltd.

Pijikay International Exports P Ltd.

Poyilakada Fisheries Private Limited

Pravesh Seafood Private Limited

Premier Exports International

Premier Marine Foods

Premier Seafoods Exim (P) Ltd.

Protech Organo Foods Private Limited

Raju Exports

Rajyalakshmi Marine Exports ⁵

⁵ We note that this company's name was incorrectly listed as Rajyalaksmi Marine Exports in the Initiation Notice and subsequently corrected. See Initiation Notice, 87 FR at 21621; see also Initiation of Antidumping and Countervailing Duty Administrative Reviews, 87 FR 29280, 29282 (May 13, 2022).

Ram's Assorted Cold Storage Limited

Raunaq Ice & Cold Storage

RDR Exports

RF Exports Private Limited

Rising Tide

Riyarchita Agro Farming Private Limited

Rupsha Fish Private Limited

R V R Marine Products Private Limited

S Chanchala Combines

Safera Food International

Sagar Samrat Seafoods

Sahada Exports

Sai Aquatechs Private Limited

Salet Seafoods Pvt. Ltd.

Samaki Exports Private Limited

Sanchita Marine Products Private Limited

Sasoondock Matsyodyog Sahakari Society Ltd.

Sea Doris Marine Exports

Seagold Overseas Pvt. Ltd.

Seasaga Enterprises Private Limited/Seasaga Group

Shimpo Exports Private Limited

Shimpo Seafoods Private Limited

Shiva Frozen Food Exp. Pvt. Ltd.

Shroff Processed Food & Cold Storage P Ltd.

Sigma Seafoods

Silver Seafood

Sita Marine Exports

Sonia Fisheries

Sreeragam Exports Private Limited

Sri Sakkthi Cold Storage

Srikanth International

SSF Ltd.

Star Agro Marine Exports Private Limited

Star Organic Foods Private Limited

Stellar Marine Foods Private Limited

Sterling Foods

Sun Agro Exim

Supran Exim Private Limited

Suvarna Rekha Exports Private Limited

Suvarna Rekha Marines P Ltd.

TBR Exports Private Limited

Teekay Marines Private Limited

Tej Aqua Feeds Private Limited

The Waterbase Limited

Torry Harris Seafoods Ltd.

Triveni Fisheries P Ltd.

U & Company Marine Exports

Ulka Sea Foods Private Limited

Uniloids Biosciences Private Limited

Uniroyal Marine Exports Ltd.

Unitriveni Overseas Private Limited

Vaisakhi Bio-Marine Private Limited

Varma Marine

Vasai Frozen Food Co.

Veronica Marine Exports Private Limited

Victoria Marine & Agro Exports Ltd.

Vinner Marine

Vitality Aquaculture Pvt. Ltd.

VKM Foods Private Limited

VRC Marine Foods LLP

West Coast Fine Foods (India) Private Limited

West Coast Frozen Foods Private Limited

Zeal Aqua Limited

[FR Doc. 2022-25053 Filed 11-16-22; 8:45 am]

BILLING CODE 3510-DS-P